DEPARTMENT OF DEFENSE

Department of the Army; Corps of Engineers

Notice of Intent To Prepare an Environmental Impact Statement, Initiate the Public Scoping Period and Host Public Scoping Meetings for West Facilities Modernization, St. Louis, Missouri, Metropolitan Area

AGENCY: Department of the Army, U.S. Army Corps of Engineers, DoD.

ACTION: Notice of intent.

SUMMARY: Pursuant to the National Environmental Policy Act of 1969 (NEPA), as amended, the National Geospatial-Intelligence Agency (NGA) announces its intent to prepare an environmental impact statement (EIS) to analyze potential impacts to the quality of the human environment resulting from the proposed construction and operation of new, modern facilities in the St. Louis metropolitan area. The U.S. Army Corps of Engineers (USACE), Kansas City District, will be the project manager for this EIS. This notice informs the public of the proposed action, announces the public scoping process, and solicits public comments to identify issues related to the proposed project.

DATES: The public scoping period begins with the publication of this notice in the Federal Register and will continue until January 19, 2015. All comments submitted or postmarked by January 19, 2015 will be considered in defining the scope of the EIS. Comments submitted or postmarked after that date will be considered to the extent practicable. For public scoping meetings, see SUPPLEMENTARY INFORMATION section.

FOR FURTHER INFORMATION CONTACT: To provide written comments on the EIS, request to be added to the project mailing list, or for further information or questions about the EIS process, please contact Ms. Amy Blair, U.S. Army Corps of Engineers, Kansas City District by telephone at (816) 389-3393, by mail at Room 529, 601 E. 12th Street, Kansas City, MO 64106, or by electronic mail at NextNGAWest@usace.army.mil.

SUPPLEMENTARY INFORMATION: The National Geospatial-Intelligence Agency delivers geospatial intelligence, or GEOINT, that provides a decisive advantage to warfighters, policymakers, intelligence professionals and first responders. Both an intelligence agency and combat support agency, NGA fulfills the president's national security priorities in partnership with the intelligence community and the Department of Defense. NGA is headquartered in Springfield, Va., and has two major locations in St. Louis and Arnold, MO.

NGA is pursuing construction and operation of a modern facility in the St. Louis metropolitan area to better support its mission to provide timely, relevant, and accurate geospatial intelligence in support of national security. The proposed new facility will support NGA's current mission, improve its resiliency, and address challenges associated with its current facility located on Second Street in the city of St. Louis, including physical constraints and security requirements. The EIS will evaluate and disclose the impacts of constructing a new replacement facility and relocating NGA operations at alternative sites, in addition to a No Action Alternative.

No Action Alternative: The EIS will analyze the No Action Alternative, under which no new construction or relocation will occur.

The Proposed Action will be to construct a new, modern West Facility in the St. Louis metropolitan area.

Alternatives will be developed during and following the public scoping period, and will consist of alternative sites for the new facility. The following six proposed site locations were initially identified through a site location study:

• Fenton: 1050 Dodge Drive, Fenton, MO (southwest of St. Louis);

• Mehlville: 13045 Tesson Ferry Road, St. Louis, MO (south of St. Louis);

• NorthPark: 4800 N. Hanley Road, St. Louis (Ferguson), MO (northwest of St. Louis);

• North St. Louis City: Near the intersections of Cass and North Jefferson Avenues;

• St. Clair County: Along Interstate (I-64), adjacent to the northeast boundary of Scott Air Force Base (AFB), Illinois (east of St. Louis); and

• Weldon Spring: 4700 Technology Drive, Weldon Spring, MO (northwest of St. Louis).

Two of the six sites have since been removed from consideration. A portion of the NorthPark location has been sold and the remaining land does not meet NGA's requirements. Additionally, the Weldon Spring location is no longer under consideration based on master planning review.

Scoping: Public scoping is being conducted through January 19, 2015, to provide the public with an opportunity to offer input on the scope of issues to be addressed and to identify issues related to the proposed action and alternative sites. As part of public scoping, NGA and the Corps of Engineers plan to hold three public scoping meetings in early December 2014. The dates and locations of the scoping meetings and other opportunities for public participation in the EIS process will be announced through news media in the St. Louis metropolitan area.

In addition to complying with NEPA and DoD planning guidance, scoping will be used to partially fulfill the public participation requirements of Section 106 of the National Historic Preservation Act (NHPA). Except where subject to the confidentiality provision of Section 304 of the NHPA, all comments received during scoping will become part of a project administrative record and may be included as an appendix to the EIS. A Draft EIS is expected to be circulated for public comment in summer/fall 2015.

Jennifer L. Switzer,
Chief, Planning Branch, U.S. Army Corps of Engineers, Kansas City District.

[FR Doc. 2014-26638 Filed 11-7-14; 8:45 am]

BILLING CODE 3720-58-P